DEPARTMENT OF HEALTH AND HUMAN SERVICES

Substance Abuse and Mental Health Services Administration

Notice of Meeting for the Interdepartmental Substance Use Disorders Coordinating Committee (ISUDCC)

AGENCY: Substance Abuse and Mental Health Services Administration (SAMHSA), Department of Health and Human Services (HHS).

ACTION: Notice.

SUMMARY: The Secretary of Health and Human Services (Secretary) announces a meeting of the Interdepartmental Substance Use Disorders Coordinating Committee (ISUDCC). The ISUDCC is open to the public and members of the public can attend the meeting via telephone or webcast only, and not in person. Agenda with call-in information will be posted on the SAMHSA website prior to the meeting at: https://www.samhsa.gov/about-us/advisory-councils/meetings.

DATES: December 11, 2024, 1 p.m.-4 p.m. EST.

ADDRESSES: The meeting will be open and held virtually. The meeting can be accessed via Zoom.

FOR FURTHER INFORMATION CONTACT: Tracy Goss, ISUDCC Designated Federal Officer, Substance Abuse and Mental Health Services Administration, 5600 Fishers Lane, Rockville, MD 20857; telephone: 240-276-0759; email: Tracy.Goss@samhsa.hhs.gov.

SUPPLEMENTARY INFORMATION: The upcoming meeting will focus on implementation of the ISUDCC's recommendations regarding how the Federal Government can more effectively integrate and coordinate harm reduction approaches across the continuum of prevention, treatment, and recovery policies, programs, and practices. The goal is to build consensus around those that can enhance national efforts to address substance use and substance use disorders and support further reductions in overdose mortality. In addition to discussing these recommendations, the meeting will feature several key presentations:

• Harm Reduction Summit Updates: Presentations will share insights, outcomes, and next steps from the recent Harm Reduction Summit, which focused on advancing harm reduction strategies at a national level.

• Recovery and Harm Reduction Workgroup: A presentation will cover the progress made by the Recovery and Harm Reduction Workgroup, highlighting how recovery-focused harm reduction strategies are being integrated into the broader framework of substance use disorder policy and practice.

• Naloxone Saturation Policy Academy work: An update on the Naloxone Saturation Policy Academy work, an important initiative focused on ensuring access to naloxone, a critical tool in preventing opioid overdose deaths, among groups at highest risk for and most likely to witness an overdose. Three academy cohorts have supported states, communities, and policymakers in developing and implementing effective naloxone distribution strategies. The initiative also includes training and technical assistance to states and local organizations, helping them create robust distribution networks and policies to ensure naloxone is optimally available when needed. This is enhanced by a bi-monthly virtual learning collaborative, open to all states, on different topics related to saturation of naloxone and other opioid overdose reversal medications.

This meeting will offer an important opportunity to continue advancing recommendations and key initiatives through the ISUDCC, fostering deeper collaboration to continue addressing substance use and substance use disorders across the nation.

Committee Name: Interdepartmental Substance Use Disorders Coordinating Committee (ISUDCC).

I. Background and Authority

The Interdepartmental Substance Use Disorders Coordinating Committee is required under Section 7022 of the Substance Use-Disorder Prevention that Promotes Opioid Recovery and Treatment for Patients and Communities Act (SUPPORT Act, Public Law 115-271) to accomplish the following duties: (1) identify areas for improved coordination of activities, if any, related to substance use disorders, including research, services, supports, and prevention activities across all relevant federal agencies; (2) identify and provide to the Secretary recommendations for improving federal programs for the prevention and treatment of, and recovery from, substance use disorders, including by expanding access to prevention, treatment, and recovery services; (3) analyze substance use disorder prevention and treatment strategies in different regions of and populations in the United States and evaluate the extent to which federal substance use disorder prevention and treatment strategies are aligned with State and local substance use disorder prevention and treatment strategies; (4) make recommendations to the Secretary regarding any appropriate changes with respect to the activities and strategies described in items (1) through (3) above; (5) make recommendations to the Secretary regarding public participation in decisions relating to substance use disorders and the process by which public feedback can be better integrated into such decisions; and (6) make recommendations to ensure that substance use disorder research, services, supports, and prevention activities of the Department of Health and Human Services and other federal agencies are not unnecessarily duplicative.

Not later than one year after the date of the enactment of this Act, and annually thereafter for the life of the Committee, the Committee shall publish on the internet website of the Department of Health and Human Services, which may include the public information dashboard established under section 1711 of the Public Health Service Act, as added by section 7021, a report summarizing the activities carried out by the Committee pursuant to subsection (e), including any findings resulting from such activities.

II. Membership

This ISUDCC consists of federal members listed below or their designees, and non-federal public members.

Federal Membership: Members include, The Secretary of Health and Human Services; The Attorney General of the United States; The Secretary of Labor; The Secretary of Housing and Urban Development; The Secretary of Education; The Secretary of Veterans Affairs; The Commissioner of Social Security; The Assistant Secretary for Mental Health and Substance Use; The Director of National Drug Control Policy; representatives of other Federal agencies that support or conduct activities or programs related to substance use disorders, as determined appropriate by the Secretary.

Non-federal Membership: Members include, 17 non-federal public members appointed by the Secretary, representing individuals who have received treatment for a diagnosis of a substance use disorder; directors of State substance use agencies; representatives of leading research, advocacy, or service organizations for adults with substance use disorder; physicians, licensed mental health professionals, advance practice registered nurses, and physician assistants, who have experience in treating individuals with substance use disorders; substance use disorder treatment professionals who provide treatment services at a certified opioid treatment program; substance use disorder treatment professionals who have research or clinical experience in working with racial and ethnic minority populations; substance use disorder treatment professionals who have research or clinical mental health experience in working with medically underserved populations; state-certified substance use disorder peer support specialists; drug court judge or a judge with experience in adjudicating cases related to substance use disorder; public safety officers with extensive experience in interacting with adults with a substance use disorder; and individuals with experiences providing services for homeless individuals with a substance use disorder.

The ISUDCC is required to meet at least twice per calendar year.

To attend virtually, submit written or brief oral comments, or request special accommodation for persons with disabilities, contact Tracy Goss. Individuals can also register on-line at: https://snacregister.samhsa.gov/

The public comment section will be scheduled at the conclusion of the meeting. Individuals interested in submitting a comment, must notify Tracy Goss on or before December 2, 2024, via email to: Tracy.Goss@samhsa.hhs.gov.

Up to two minutes will be allotted for each approved public comment as time permits. Written comments received in advance of the meeting will be considered for inclusion in the official record of the meeting.

Substantive meeting information and a roster of Committee members is available at the SAMHSA's Advisory Councils website: https://www.samhsa.gov/about-us/advisory-councils.

Dated: November 12, 2024.
Carlos Castillo,
Committee Management Officer.

[FR Doc. 2024-26759 Filed 11-15-24; 8:45 am]

BILLING CODE 4162-20-P